DEPARTMENT OF DEFENSE

Department of the Navy

Information on Surplus Land at a Military Installation Designated for Disposal: Marine Corps Support Activity, Kansas City, MO

AGENCY: Department of the Navy, DoD.

ACTION: Notice.

SUMMARY: This notice provides information on the surplus property at Marine Corps Support Activity, Kansas City, MO.

FOR FURTHER INFORMATION CONTACT: Ms. Kimberly Kesler, Director, Base Realignment and Closure Program Management Office, 1455 Frazee Road, San Diego, CA 92108-4310, telephone 619-532-0993, or Mr. James E. Anderson, Director, Base Realignment and Closure Program Management Office, Southeast, 4130 Faber Place Drive, Suite 202, North Charleston, SC 29405, telephone 843-743-2147.

SUPPLEMENTARY INFORMATION: In 2005, Marine Corps Support Activity, Kansas City, MO, was designated for closure under the authority of the Defense Base Closure and Realignment Act of 1990, Public Law 101-510, as amended (the Act). Pursuant to this designation, on January 23, 2006, land and facilities at this installation were declared excess to the Department of Navy (DON) and available to other Department of Defense components and other federal agencies. The DON has evaluated all timely Federal requests and has made a decision on property required by the Federal Government.

Notice of Surplus Property. Pursuant to paragraph (7)(B) of Section 2905(b) of the Act, as amended by the Base Closure Community Redevelopment and Homeless Assistance Act of 1994, the following information regarding the redevelopment authority for surplus property at Marine Corps Support Activity, Kansas City, MO, is published in the Federal Register.

Redevelopment Authority. The local redevelopment authority for Marine Corps Support Activity, Kansas City, MO, is the City of Kansas City, MO. The point of contact is Mr. Edgar Jordan, Division Head, Property and Relocation, City Planning and Development Department, City of Kansas City, 16th Floor, City Hall, Kansas City, MO 64106, telephone 816-513-2894.

Surplus Property Description. The following is a list of the land and facilities at Marine Corps Support Activity, Kansas City that are surplus to the needs of the Federal Government.

a. Land. Marine Corps Support Activity, Kansas City, MO, consists of approximately 147 acres of improved Government-owned land located within Jackson County and the City of Kansas City. In general, of the 147 acres approximately 27.20 acres will be made available when the installation closes in March 2011.

b. Buildings. The following is a summary of the buildings and other improvements located on the above-described land that will also be available when the installation closes. Property numbers are available on request.

(1) Administrative/office/training facilities (2 structures). Comments: Approximately 20,375 square feet.

(2) Transient Lodging (2 structures). Comments: Approximately 43,300 square feet.

(3) Medical and Dental facilities (1 structure). Comments: Approximately 10,500 square feet.

(4) Barracks (1 structure) Comments: Approximately 48,000 square feet.

(5) Supply and Exchange facilities (3 structures). Comments: Approximately 52,100 square feet.

(6) Recreational facilities include pools, bath house, pavilion, ball fields, tennis court, and playing fields. Comments: Measuring systems vary.

Redevelopment Planning. Pursuant to Section 2905(b)(7)(F) of the Act, the City of Kansas City (the LRA) will conduct a community outreach effort with respect to the surplus property and will publish, within 30 days of the date of this notice, in a newspaper of general circulation in the communities within the vicinity of Marine Corps Support Activity, Kansas City, MO, the time period during which the LRA will receive notices of interest from State and local governments, representatives of the homeless, and other interested parties. This publication shall include the name, address, telephone number, and the point of contact for the LRA who can provide information on the prescribed form and contents of the notices of interest.

Dated: December 22, 2006.
M.A. Harvison,
Lieutenant Commander, Judge Advocate General's Corps, U.S. Navy, Federal Register Liaison Officer.

[FR Doc. E6-22470 Filed 12-29-06; 8:45 am]

BILLING CODE 3810-FF-P